NATIONAL AERONAUTICS AND SPACE ADMINISTRATION

[Notice: 13-043]

NASA Advisory Council; Audit, Finance and Analysis Committee; Meeting

AGENCY: National Aeronautics and Space Administration.

ACTION: Notice of Meeting.

SUMMARY: In accordance with the Federal Advisory Committee Act, Public Law 92-463, as amended, the National Aeronautics and Space Administration announces a meeting of the Audit, Finance and Analysis Committee of the NASA Advisory Council.

DATES: Monday, April 22, 2013, 9:00 a.m.-4:30 p.m., and Tuesday, April 23, 2013 9:00 a.m.-10:00 a.m., Local Time.

ADDRESSES: NASA Headquarters, 300 E Street, SW., Room 8E40, Washington, DC 20456.

FOR FURTHER INFORMATION CONTACT: Ms. Charlene Williams, Office of the Chief Financial Officer, National Aeronautics and Space Administration Headquarters, Washington, DC 20546. Phone: 202-358-2183, fax: 202-358-4336.

SUPPLEMENTARY INFORMATION: The agenda for the meeting includes the following topics

• Finance/Budget Updates.

• Conference Cost Reporting Requirements.

• Financial Statement Audit Update.

• Unfunded Environmental Liabilities.

• Internal Control Assurances.

The meeting will be open to the public up to the seating capacity of the room. It is imperative that the meeting be held on this date to accommodate the scheduling priorities of the key participants. Attendees will be requested to sign a register and comply with NASA Security requirements, including presentation of a valid picture ID to Security before access to NASA Headquarters. Foreign nationals attending this meeting will be required to provide no less than 10 working days prior to the meeting: Full name, gender; date/place of birth; citizenship; visa information (number, type, expiration date); passport information (number, country, expiration date); employer/affiliation information (name of institution, address, country, telephone); title/position of attendee; and home address to Ms. Charlene Williams at fax number 202-358-4336. U.S. Citizens and Permanent Residents (green card holders) are requested to submit their name and affiliation 3 working days prior to the meeting to Ms. Charlene Williams via email at charlene.williams-1@nasa.gov or by telephone at 202-358-2183 or fax at 202-358-4336.

Patricia D. Rausch,
Advisory Committee Management Officer, National Aeronautics and Space Administration.

[FR Doc. 2013-07996 Filed 4-4-13; 8:45 am]

BILLING CODE 7510-13-P